FEDERAL MARITIME COMMISSION

Notice of Request for Additional Information

The Commission gives notice that it has formally requested that the parties to the below listed agreement provide additional information pursuant to 46 U.S.C. 40304(d). This action prevents the agreement from becoming effective as originally scheduled. Interested parties may file comments within fifteen (15) days after publication of this notice appears in the Federal Register.

Agreement No.: 011962-007.

Title: Consolidated Chassis Management Pool Agreement.

Parties: Ocean Carrier Equipment Management Association, Inc. (FMC Agreement No. 011284) and its individual ocean common carrier members; CCM Holdings LLC; CCM Pools LLC and its subsidiaries Chicago Ohio Valley Consolidated Chassis Pool LLC, Denver Consolidated Chassis Pool LLC, Gulf Consolidated Chassis Pool LLC, Mid-South Consolidated Chassis Pool LLC, Midwest Consolidated Chassis Pool LLC, and South Atlantic Consolidated Chassis Pool LLC; Matson Navigation Company; and Westwood Shipping Lines.

By Order of the Federal Maritime Commission.
Dated: September 16, 2011.
Rachel E. Dickon,
Assistant Secretary.

[FR Doc. 2011-24272 Filed 9-20-11; 8:45 am]

BILLING CODE 6730-01-P